DEPARTMENT OF THE TREASURY

Alcohol and Tobacco Tax and Trade Bureau

27 CFR Parts 4, 5, 7 and 13

[Notice No. 7; Ref: T.D. ATF-483, ATF Notices No. 954 and No. 964]

RIN 1513-AA46 (Formerly 1512-AC87)

Organic Claims in Labeling and Advertising of Alcohol Beverages (2002R-288P)

AGENCY: Alcohol and Tobacco Tax and Trade Bureau, Treasury.

ACTION: Notice of proposed rulemaking; reopening of comment period.

SUMMARY: In response to an industry request, TTB reopens the comment period for ATF Notice No. 954, a notice of proposed rulemaking published in the Federal Register on October 8, 2002.

DATES: Written comments must be received on or before June 23, 2003.

ADDRESSES: You may view copies of the temporary and proposed regulations, the notice of proposed rulemaking, the request for extension, and any comments received on the notice by appointment at the ATF Reference Library, Public and Governmental Affairs, Room 6480, 650 Massachusetts Avenue, NW., Washington, DC 20226, or online under Notice No. 954 at http://www.ttb.gov/alcohol/rules/index.htm.

You may send comments to any of the following addresses—

• Chief, Regulations and Procedures Division, Alcohol and Tobacco Tax and Trade Bureau, P.O. Box 50221, Washington, DC 20091-0221 (Attn: Notice No. 954);

• 202-927-8525 (Facsimile);

• nprm@ttb.treas.gov (E-mail);

• http://www.ttb.gov/alcohol/rules/index.htm (Online—A comment form is available with Notice 954.)

FOR FURTHER INFORMATION CONTACT: James VanVliet, Alcohol and Tobacco Tax and Trade Bureau, Alcohol Labeling and Formulation Division, 650 Massachusetts Avenue, NW., Washington, DC 20226; telephone 202-927-8140; e-mail James.Vanvliet@ttb.treas.gov.

SUPPLEMENTARY INFORMATION:

Background

On October 8, 2002, the Bureau of Alcohol, Tobacco and Firearms (ATF) published a temporary rule (T.D. ATF-483, 67 FR 62856) to amend the alcohol labeling and advertising rules to cross-reference the United States Department of Agriculture's (USDA) National Organic Program (NOP) rules, which took effect October 21, 2002. The temporary rule confirmed that any alcohol beverage labeled or advertised with an organic claim must comply with both NOP rules administered by USDA and the applicable rules administered by ATF.

At the same time, ATF published a notice of proposed rulemaking (Notice No. 954, 67 FR 62860) to solicit comments on the temporary rule. The comment period for Notice No. 954 was scheduled to close on December 9, 2002.

Before the close of the comment period, ATF received a request from the Wine Institute to extend the comment period for 90 days. The Wine Institute stated that it requested the extension in order to provide ATF with thoroughly researched comments that represented a full discussion among its members. In consideration of that request, on December 27, 2002, ATF published Notice No. 964 (67 FR 79011) to reopen the comment period until March 27, 2003.

Effective January 24, 2003, the Homeland Security Act of 2002, Pub. L. 107-296, 116 Stat. 2135 (2002), divided the Bureau of Alcohol, Tobacco and Firearms, Department of the Treasury, into two separate agencies, the Bureau of Alcohol, Tobacco, Firearms, and Explosives (ATF) in the Department of Justice, and the Tax and Trade Bureau (TTB) in the Department of the Treasury. Under the Homeland Security Act of 2002, the Administrator TTB is authorized to administer and enforce Chapters 51 (relating to distilled spirits, wine and beer) and 52 (relating to tobacco products and cigarette papers and tubes) of the Internal Revenue Code of 1986 (IRC), as amended, and IRC sections 4181 and 4182 (relating to the excise tax on firearms and ammunition). TTB also administers and enforces the Federal Alcohol Administration Act (FAA Act) and Webb-Kenyon Act in title 27, United States Code. Proceedings pending at the time the Homeland Security Act of 2002 was enacted, including notices of proposed rulemaking, are continued within the jurisdiction of the respective agencies under section 1512 of the Act. Therefore, TTB is continuing with the rulemaking on organic labels begun by ATF.

Before the March 27, 2003 due date for comments, TTB received a request from the Wine Institute for an additional 45-day extension of the comment period. The Wine Institute stated that it would like additional time to work with USDA representatives on labeling issues as they apply to wine. Since we have a temporary rule in place, we believe that an additional 45-day extension of the comment period is justified.

Additional Information on the Sulfite Statement in Wine

In early comments, several wine producers expressed concern that they would be required to list sulfites twice on their labels if they made wine from organic grapes, since sulfite statements are required under the FAA Act regulations and full ingredient listings are required by the USDA NOP rules. Commenters stated that they would be required to list any sulfiting agent as an ingredient under the NOP rules, and still give the sulfite warning required by 4.32(e). TTB's Advertising, Labeling and Formulation Division (ALFD) takes a different approach. ALFD approves labels that include the sulfite statement or identify the specific sulfiting agent in the ingredient listing, provided that the sulfite statement appears more conspicuous than its surrounding text and in a format allowed under the regulations. An example of this presentation appears in the sample label for wine made from 70% or more organic ingredients posted on the TTB Web site (http://www.ttb.gov/alcohol/alfd/wine.pdf).

Drafting Information

Marjorie Ruhf of the Regulations and Procedures Division, Alcohol and Tobacco Tax and Trade Bureau, drafted this notice.

List of Subjects

27 CFR Part 4

Advertising, Customs duties and inspection, Imports, Labeling, Packaging and containers, Reporting and recordkeeping requirements, Trade practices, Wine.

27 CFR Part 5

Advertising, Consumer protection, Customs duties and inspection, Imports, Labeling, Liquors, Packaging and containers.

27 CFR Part 7

Advertising, Beer, Customs duties and inspection, Imports, Labeling, Reporting and recordkeeping requirements, Trade practices.

27 CFR Part 13

Administrative practice and procedure, Alcohol and alcoholic beverages, Labeling.

Authority and Issuance

This document is issued under the authority in 27 U.S.C. 205.

Signed: May 2, 2003.
Arthur J. Libertucci,
Administrator.

[FR Doc. 03-11609 Filed 5-8-03; 8:45 am]

BILLING CODE 4810-31-P